DEPARTMENT OF TRANSPORTATION

National Highway Traffic Safety Administration

[Docket No. NHTSA-2020-0008]

Agency Information Collection Activities; Notice and Request for Comment; National Survey of Speeding Attitudes and Behaviors

AGENCY: National Highway Traffic Safety Administration (NHTSA), Department of Transportation (DOT).

ACTION: Notice and request for public comment on a reinstatement with modification of a previously approved collection of information.

SUMMARY: The National Highway Traffic Safety Administration (NHTSA) invites public comments about our intention to request approval from the Office of Management and Budget (OMB) for a reinstatement with modification of a previously approved collection of information. Before a Federal agency can collect certain information from the public, it must receive approval from OMB. Under procedures established by the Paperwork Reduction Act of 1995, before seeking OMB approval, Federal agencies must solicit public comment on proposed collections of information, including extensions and reinstatements of previously approved collections. This document describes an Information Collection Request (ICR) for which NHTSA intends to seek OMB approval.

DATES: Comments must be received on or before October 2, 2020.

ADDRESSES: You may submit comments identified by DOT Docket ID Number NHTSA-2020-0008 using any of the following methods:

• Electronic submissions: Go to http://www.regulations.gov. Follow the on-line instructions for submitting comments.

• Mail: Docket Management Facility, M-30, U.S. Department of Transportation, 1200 New Jersey Avenue SE, West Building Ground Floor, Room W12-140, Washington, DC 20590.

• Hand Delivery: West Building Ground Floor, Room W12-140, 1200 New Jersey Avenue SE, Washington, DC, between 9 a.m. and 5 p.m., Monday through Friday, except Federal holidays. To be sure someone is there to help you, please call (202) 366-9322 before coming.

• Fax: 1-202-493-2251.

Instructions: Each submission must include the Agency name and the Docket number for this Notice. Note that all comments received will be posted without change to http://www.regulations.gov including any personal information provided.

Privacy Act: Anyone is able to search the electronic form of all comments received into any of our dockets by the name of the individual submitting the comment (or signing the comment, if submitted on behalf of an association, business, labor union, etc.). You may review DOT's complete Privacy Act Statement in the Federal Register published on April 11, 2000 (65 FR 19477-78) or you may visit https://www.transportation.gov/privacy.

Docket: For access to the docket to read background documents or comments received, go to http://www.regulations.gov or the street address listed above. Follow the online instructions for accessing the dockets via internet.

FOR FURTHER INFORMATION CONTACT: For additional information or access to background documents, contact Kristie Johnson, Ph.D., Office of Behavioral Safety Research (NPD-310), National Highway Traffic Safety Administration, 1200 New Jersey Avenue SE, W46-498, Washington, DC 20590. Dr. Johnson's phone number is 202-366-2755, and her email address is kristie.johnson@dot.gov.

SUPPLEMENTARY INFORMATION: Under the Paperwork Reduction Act of 1995, before an agency submits a proposed collection of information to OMB for approval, it must first publish a document in the Federal Register providing a 60-day comment period and otherwise consult with members of the public and affected agencies concerning each proposed collection of information. The OMB has promulgated regulations describing what must be included in such a document. Under OMB's regulations (at 5 CFR 1320.8(d)), an agency must ask for public comment on the following: (i) Whether the proposed collection of information is necessary for the proper performance of the functions of the agency, including whether the information will have practical utility; (ii) the accuracy of the agency's estimate of the burden of the proposed collection of information, including the validity of the methodology and assumptions used; (iii) how to enhance the quality, utility, and clarity of the information to be collected; and (iv) how to minimize the burden of the collection of information on those who are to respond, including the use of appropriate automated, electronic, mechanical, or other technological collection techniques or other forms of information technology, e.g., permitting electronic submission of responses. In compliance with these requirements, NHTSA asks for public comment on the following proposed collection of information:

Title: National Survey of Speeding Attitudes and Behaviors.

OMB Control Number: 2127-0613.

Form Number: NHTSA Form 1538, NHTSA Form 1539, NHTSA Form 1544, NHTSA Form 1545, NHTSA Form 1546.

Type of Information Collection Request: Reinstatement with modification of a previously approved information collection (OMB Control No. 2127-0613).

Type of Review Requested: Regular.

Requested Expiration Date of Approval: 3 years from date of approval.

Summary of the Collection of Information: NHTSA is seeking approval to conduct a National Survey of Speeding Attitudes and Behaviors by web and mail among a national probability sample of 7,013 adult drivers (and 152 adult drivers for a pilot survey), age 18 and older. Participation by respondents would be voluntary. Survey topics would include the extent to which drivers speed, driver attitudes and perceptions about speeding, reasons and motivations for speeding, and knowledge and attitudes towards countermeasure strategies to deter speeding.

In conducting the proposed research, the survey would use computer-assisted web interviewing (i.e., a programmed, self-administered web survey) to minimize recording errors, as well as optical mark recognition and image scanning for the paper and pencil survey to facilitate ease of use and data accuracy. A Spanish-language survey option would be used to minimize language barriers to participation. Surveys would be conducted with respondents using an address-based sampling design that encourages respondents to complete the survey online. Although web would be the primary data collection mode, a paper questionnaire would be sent to households that do not respond to the web invitations. The proposed survey would be anonymous and the survey would not collect any personal information. This collection only requires respondents to report their answers; there are no record-keeping costs to the respondents.

Description of the Need for the Information and Proposed Use of the Information: NHTSA was established to reduce deaths, injuries, and economic losses resulting from motor vehicle crashes on the Nation's highways. As part of this statutory mandate, NHTSA is authorized to conduct research for the development of traffic safety programs. Title 23, United States Code, Section 403 gives the Secretary of Transportation (NHTSA by delegation) authorization to use funds appropriated to conduct research and development activities, including demonstration projects and the collection and analysis of highway and motor vehicle safety data and related information, with respect to all aspects of highway and traffic safety systems and conditions relating to vehicle, highway, driver, passenger, motorcyclist, bicyclist, and pedestrian characteristics; accident causation and investigations; and human behavioral factors and their effect on highway and traffic safety.

Traffic crashes are complex. Often, they involve multiple contributing factors, with speeding as one of the primary factors leading to a crash. Speeding-related crashes—defined as racing, exceeding the speed limit, or driving too fast for conditions ¹—resulted in 26% of all fatal crash fatalities in 2018,² a percentage that has largely remained the same over the last 20 years despite national, State, and local efforts to address the speeding problem. In 2010, speeding-related crashes were estimated to result in $52 billion in economic costs and $203 billion in comprehensive costs.³ Speeding is especially dangerous because it reduces the driver's ability to maneuver around obstacles in a timely manner, increases the distance a vehicle requires to stop, and increases the severity of injuries.⁴ This stalled progress suggests that new countermeasures that differ from typical enforcement and engineering efforts may be needed to reduce speeding deaths. An interdisciplinary approach involving engineering, enforcement, and education is needed to change drivers' speeding behavior, thereby reducing speeding-related crashes, fatalities and injuries. To design interventions and countermeasure strategies that are likely to lead to behavior change, NHTSA requires up-to-date information on which drivers are speeding, their attitudes, perceptions, and motivations, as well as what countermeasures are most likely to reduce their speeding behavior. It is important to focus studies on factors underlying behaviors such as attitudes or perceptions of norms that are changeable.

¹ National Center for Statistics and Analysis. (2007). Speeding: 2006 data (Traffic Safety Facts. DOT HS 810 814). Retrieved from the NHTSA website: https://crashstats.nhtsa.dot.gov/Api/Public/ViewPublication/810814.

² National Center for Statistics and Analysis. (2019, December). Fatality Analysis Reporting System (FARS): 2018 Annual Report File (ARF) custom query. Retrieved from the NHTSA website: https://cdan.dot.gov/query.

³ Blincoe, L.J., Miller, T.R. Zaloshnja, E., & Lawrence, B.A. (2015, May). The economic and societal impact of motor vehicle crashes, 2010. (Revised.) (Report No. DOT HS 812 013). Retrieved from the NHTSA website: https://crashstats.nhtsa.dot.gov/Api/Public/ViewPublication/812013.

⁴ National Center for Statistics and Analysis. (2007). Speeding: 2006 data (Traffic Safety Facts. DOT HS 810 814).

NHTSA has conducted the National Survey of Speeding Attitudes and Behaviors on three previous occasions—first in 1997, again in 2002, and most recently in 2011. In the 2021 survey, NHTSA intends to examine the extent to which drivers speed, who the speeders are, when and why drivers speed, and what countermeasures are most acceptable and effective in reducing speeding. Furthermore, NHTSA plans to assess whether self-reported behaviors, attitudes, and perceptions regarding speeding and associated countermeasure strategies have changed over time since the administration of the prior three national surveys. The 2021 survey will also include new questions on emerging speed-related technologies. The findings from this proposed information collection will assist NHTSA in designing, targeting, and implementing programs intended to reduce speed on the roadways and to provide data to States, localities, and law enforcement agencies that will aid in their efforts to reduce speed-related crashes and injuries.

NHTSA will use the information to produce a technical report that presents the results of the study. The technical report will provide aggregate (summary) statistics and tables as well as the results of statistical analysis of the information, but it will not include any personally identifiable information (PII). The technical report will be shared with State highway offices, local governments, and those who develop traffic safety communications that aim to reduce speed-related crashes.

Frequency of Collection: The study will be conducted one time during the three-year period for which NHTSA is requesting approval. This study is part of a tracking and trending study to measure changes over time. The last study was administered in 2011.

Affected Public: Participants will be U.S. adults (18 years old and older) who drive a motor vehicle. Businesses are ineligible for the sample and would not be interviewed.

Estimated Number of Respondents: 7,165.

Participation in this study will be voluntary with 7,013 participants sampled from all 50 States and the District of Columbia using address data from the most recent U.S. Postal Service (USPS) computerized Delivery Sequence File (DSF) of residential addresses. An estimated 20,600 households will be contacted and have the study described to them. No more than one respondent will be selected per household.

Prior to the main survey, a pilot survey will be administered to test the survey and the mailing protocol and procedures. Participation in this study will be voluntary with 152 participants sampled from all 50 States and the District of Columbia using address data from the most recent U.S. Postal Service (USPS) computerized Delivery Sequence File (DSF) of residential addresses. An estimated 444 households will be contacted and have the study described to them. No more than one respondent will be selected per household.

Estimated Total Annual Burden Hours: NHTSA estimates the total burden of this information collection by estimating the burden to those that NHTSA contacts who do not respond (non-responders), those that NHTSA contacts and respond but are ineligible (ineligible respondents), and those that respond and are eligible for participation (eligible respondents or actual participants). The estimated time to contact 20,600 potential participants (actual participants, ineligible respondents, and non-responders) for the survey and 444 potential participants (actual participants, ineligible respondents, and non-responders) for the pilot is one minute per person per contact attempt. Contact attempts will be made in five waves with fewer potential participants contacted each subsequent wave. NHTSA estimates that 7,221 people will respond to the survey request and 156 will respond to the pilot. Of those, NHTSA estimates that nearly 3% will be ineligible because they are not drivers or are under 18 years old resulting in 208 respondents to the survey and 4 respondents to the pilot who are ineligible. The estimated time to contact and screen 208 ineligible survey participants and 4 ineligible pilot participants is three minutes per person. The estimated time to contact and complete the survey for 7,013 participants and 152 pilot participants is 21 minutes per person. Details of the burden hours for each wave in the pilot and full survey are included in Tables 1 and 2 below.

BILLING CODE 4910-59-P

When rounded up to the nearest whole hour for each data collection effort, the total estimated annual burden is 3,830 hours for the project activities.

Estimated Total Annual Burden Cost: Participation in this study is voluntary, and there are no costs to respondents beyond the time spent completing the questionnaires.

Public Comments Invited: You are asked to comment on any aspects of this information collection, including (i) whether the proposed collection of information is necessary for the proper performance of the functions of the Department, including whether the information will have practical utility; (ii) the accuracy of the Department's estimate of the burden of the proposed information collection; (iii) ways to enhance the quality, utility and clarity of the information to be collected; and (iv) ways to minimize the burden of the collection of information on respondents, including the use of automated collection techniques or other forms of information technology.

(Authority: The Paperwork Reduction Act of 1995; 44 U.S.C. Chapter 35, as amended; 49 CFR 1.49; and DOT Order 1351.29)

Nanda Narayanan Srinivasan,
Associate Administrator, Research and Program Development.

[FR Doc. 2020-16731 Filed 7-31-20; 8:45 am]

BILLING CODE 4910-59-C